DEPARTMENT OF DEFENSE

Office of the Secretary

Notice of Amendment No. 004 to the Solicitation for Cooperative Agreement Applications (SCAA) Issued on July 7, 2010

AGENCY: Defense Logistics Agency, Department of Defense (DoD).

ACTION: Amended solicitation for cost sharing cooperative agreement applications.

SUMMARY: The Defense Logistics Agency (DLA) executes the Department of Defense (DoD) Procurement Technical Assistance Program by awarding cost sharing cooperative agreements to assist states, local governments, private nonprofit organizations, tribal organizations and economic enterprises in establishing or maintaining procurement technical assistance centers (PTACs) pursuant to Chapter 142 of title 10, United States Code.

The Solicitation for Cooperative Agreement Applications (SCAA) issued July 7, 2010 is amended to allow acceptance of applications for new programs in fiscal year (FY) 2012. For FY 2012, new applications will only be considered from entities proposing to provide service to an area that will not be covered by an existing program. Applications proposing to duplicate any portion of the service area of an existing program will neither be accepted nor considered.

Amendment No. 004 is not applicable to existing programs that have already received a base period award in FY 2011 under the amended solicitation.

As of the issue date of Amendment No. 004, significant areas not covered or expected to become uncovered in FY 2012 include, but may not be limited to, the States of Washington, North Dakota and Rhode Island, and Washington DC. There are also uncovered regional areas (i.e., counties), but those areas have not been listed. Any entity contemplating submitting an application under this amendment, including those that propose to service an area identified, must first submit the inquiry discussed in Amendment No. 004 to ascertain if the proposed area is covered.

Funding of new programs for FY 2012 is contingent on the availability of funds. In addition, awards may not be made to all acceptable applicants. Award decisions will optimize the use of program funds while at the same time maximizing the availability of procurement technical assistance. DLA will make funding decisions on a case-by-case basis and in the best interest of the overall program. An award decision for any application submitted pursuant to this amendment will be made prior to October 1, 2012.

The SCAA issued on July 7, 2010 and Amendment Nos. 001-004 are available at http://www.dla.mil/SmallBusiness/Pages/SCAA.aspx. Additional details regarding this opportunity are provided in Amendment No. 004. Printed copies are not available for distribution. Applications must be submitted to DLA by 5 p.m., Eastern Standard Time, on January 31, 2012. Notwithstanding any other provision in the SCAA or in previous Amendments, late applications will be neither accepted nor evaluated.

FOR FURTHER INFORMATION CONTACT: DLA Office of Small Business Programs at PTAP@DLA.MIL.

Dated: December 5, 2011.
Aaron Siegel,
Alternate OSD Federal Register Liaison Officer, Department of Defense.

[FR Doc. 2011-31591 Filed 12-8-11; 8:45 am]

BILLING CODE 5001-06-P